DEPARTMENT OF AGRICULTURE

Economic Research Service

Submission for OMB Review; Comment Request

September 28, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 3, 2016 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: National Food Study Pilot.

OMB Control Number: 0536-NEW.

Summary of Collection: The Economic Research Service (ERS) will be conducting the National Alternative Data Collection Method (ADCM) for Collecting FoodAPS-Like Data Study (aka National Food Study Pilot). The mission of ERS is to provide timely research and analysis to public and private decision makers on topics related to agriculture, food, the environment, and rural America. To achieve this mission, ERS requires a variety of data that describe agricultural production, food distribution channels, availability and price of food at the point of sale, and household demand for food products. Section 17 (U.S.C. 2026) (a) (1) of the Food and Nutrition Act of 2008 provides legislative authority for the planned data collection. .

Need and Use of the Information: The main objective of the National Food Study Pilot (NSF) is to test an alternative method of collecting data on the food acquired by American households that leads to more complete and accurate information about patterns of food acquisitions. The NSF Pilot will make use of the latest computer technologies to collect data on foods acquired and to monitor data. The data collection will provide information that is critical to ERS' plans for the next round of FoodAPS data collection. The NSF Pilot findings will be used to improve the sampling design and data collection methodology for the next FoodAPS Study.

Description of Respondents: Individuals or household.

Number of Respondents: 2,500.

Frequency of Responses: Reporting: On occasion.

Total Burden Hours: 6,575.

Ruth Brown,
Departmental Information Collection Clearance Officer.

[FR Doc. 2016-23869 Filed 10-3-16; 8:45 am]

BILLING CODE 3410-18-P